PRESIDENTIAL COMMISSION ON THE ASSIGNMENT OF WOMEN IN THE ARMED FORCES

32 CFR Chapter XXIX

Removal of CFR Chapter

Since the Presidential Commission on the Assignment of Women in the Armed Forces is legally terminated and its regulations are no longer in force and effect, the Office of the Federal Register is removing 32 CFR Chapter XXIX from the Code of Federal Regulations, in compliance with the provisions in 1 CFR 8.2.

Accordingly, 32 CFR is amended by removing part 2900 and vacating chapter XXIX.

[FR Doc. 00-55506 Filed 5-11-00; 8:45 am]

BILLING CODE 1505-01-D